DEPARTMENT OF THE TREASURY

Departmental Offices; Privacy Act of 1974, as Amended; System of Records

AGENCY: Departmental Offices, Treasury.

ACTION: Notice of proposed Privacy Act System of Records.

SUMMARY: In accordance with the requirements of the Privacy Act of 1974, as amended, 5 U.S.C. 552a, the Department of the Treasury gives notice of a proposed new system of records entitled, “Treasury/DO .015—Political Appointee Files.”

DATES: Comments must be received no later than October 10, 2000. The proposed system of records will be effective October 18, 2000, unless the Department receives comments that would result in a contrary determination.

ADDRESSES: Comments should be sent to Chief of Staff, Department of the Treasury, Room 3420, 1500 Pennsylvania Avenue, NW., Washington, DC 20220.

FOR FURTHER INFORMATION CONTACT: Jana Carter, Department of the Treasury, (202) 622-2955. Fax: 202-622-0737.

SUPPLEMENTARY INFORMATION: A review of the filing systems maintained by the Department identified records which are maintained by names or other identifiers of individuals considered for possible appointments to non-career positions in the Department of the Treasury.

The system of records report, as required by 5 U.S.C. 552a(r) of the Privacy Act, has been submitted to the Committee on Government Reform and Oversight of the House of Representatives, the Committee on Governmental Affairs of the Senate, and the Office of Management and Budget, pursuant to Appendix I to OMB Circular A-130, Federal Agency Responsibilities for Maintaining Records About Individuals, dated February 8, 1996. The proposed system of records, Political Appointee Files—Treasury/DO .015 is published in its entirety below.

Dated: August 31, 2000.
W. Earl Wright, Jr.,
Chief Management and Administrative Programs Officer.

Treasury/DO .015

System name:

Political Appointee Files.

System location:

Department of the Treasury, Departmental Offices, 1500 Pennsylvania Avenue, NW., Washington, DC 20220.

Categories of individuals covered by the system:

Individuals who may possibly be appointed to political positions in the Department of the Treasury, consisting of Presidential appointees requiring Senate confirmation; non-career Senior Executive Service appointees; and Schedule C appointees.

Categories of records in the system:

Files may consist of the following: Referral letters; White House clearance letters; information about an individual's professional licenses (if applicable); IRS results of inquiries; notation of National Agency Check (NAC) results (favorable or otherwise); internal memoranda concerning an individual; Financial Disclosure Statements (Standard Form 278); results of inquiries about the individual; Questionnaire for National Security Positions Standard Form 86; Personal Data Statement and General Counsel Interview sheets; published works including books, newspaper and magazine articles, and treatises by the individual; newspaper and magazine articles written about or referring to the individual; and or articles containing quotes by the individual, and other correspondence relating to the selection and appointment of political appointees.

Authority for maintenance of the system:

5 U.S.C. 3301, 3302 and E.O. 10577.

Purpose(s):

These records are used by authorized personnel within the Department to determine a potential candidate's suitability for appointment to non-career positions within the Department of the Treasury.

Routine uses of records maintained in the system, including categories of users and the purposes of such uses:

These records may be disclosed to: (1) The Office of Personnel Management, Merit Systems Protection Board, Equal Employment Opportunity Commission, and General Accounting Office for the purpose of properly administering Federal personnel systems or other agencies' systems in accordance with applicable laws, Executive Orders, and regulations;

(2) A Federal, state, local or foreign agency maintaining civil, criminal or other relevant enforcement information or other pertinent information which has requested information relevant to or necessary to the requesting agency's hiring or retention of an individual, or issuance of a security clearance, license, contract, grant, or other benefit;

(3) A court, magistrate, or administrative tribunal in the course of presenting evidence, including disclosures to opposing counsel or witnesses in the course of civil discovery, litigation or settlement negotiations in response to a subpoena where relevant or potentially relevant to a proceeding, or in connection with criminal law proceedings;

(4) A congressional office in response to an inquiry made at the request of the individual to whom the record pertains;

(5) Third parties during the course of an investigation to the extent necessary to obtain information pertinent to the investigation; and

(6) Appropriate Federal, state, local or foreign agencies responsible for investigating or prosecuting the violation of, or for implementing a statute, regulation, order, or license, where the disclosing agency becomes aware of an indication of a violation or potential violation of civil or criminal law or regulation.

Policies and practices for storing, retrieving, accessing, retaining, and disposing of records in the system:

Storage:

Correspondence and forms in file folders. Records are also maintained in electronic media.

Retrievability:

Information accessed by last name of individual and Social Security Number.

Safeguards:

Building employs security guards. Data is kept in locked file cabinets and is accessible to authorized personnel only. Electronic media is password protected.

Retention and disposal:

Records are destroyed at the end of the Presidential administration during which the individual is hired. For non-selectees, records of individuals who are not hired are destroyed one year after the file is closed, but not later than the end of the Presidential administration during which the individual is considered.

System manager(s) and address:

Chief of Staff, Department of the Treasury, Rm 3420, 1500 Pennsylvania Avenue, NW., Washington, DC 20220.

Notification procedure:

Individuals wishing to be informed if they are named in this system or gain access to records maintained in the system must submit a written, signed request containing the following elements: (1) Identify the record system; (2) identify the category and type of records sought; and (3) provide at least two items of secondary identification (date of birth, employee identification number, dates of employment, or similar information). Address inquiries to Assistant Director, Disclosure Services, Department of the Treasury, 1500 Pennsylvania Avenue, NW., Washington, DC 20220.

Record access procedures:

See “Record notification procedure” above.

Contesting record procedures:

See “Record notification procedure” above.

Record source categories:

Records are submitted by the individuals and compiled from interviews with those individuals seeking non-career positions. Additional sources may include The White House, Office of Personnel Management, Internal Revenue Service, Department of Justice and international, state, and local jurisdiction law enforcement components for clearance documents, and other correspondence and public record sources.

Exemptions claimed for the system:

None.

[FR DOC 00-23117 Filed 9-7-00; 8:45 am]

BILLING CODE 4810-25-P